DEPARTMENT OF TRANSPORTATION

Federal Aviation Administration

14 CFR Part 71

[Docket No. FAA-2019-0998; Airspace Docket No. 18-AGL-16]

RIN 2120-AA66

Amendment of Area Navigation (RNAV) Route T-217 in the Vicinity of Springfield, OH

AGENCY: Federal Aviation Administration (FAA), DOT.

ACTION: Final rule.

SUMMARY: This action amends low altitude area navigation (RNAV) route T-217 in the vicinity of Springfield, OH, to update the facility type listed for the Springfield, OH (SGH), route point in the T-route description. The FAA is taking this action due to the planned decommissioning of the VHF Omnidirectional Range (VOR) portion of the Springfield VOR/Distance Measuring Equipment (VOR/DME) navigation aid (NAVAID). No existing route structure or air traffic services are affected by this action.

DATES: Effective date 0901 UTC, March 26, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

The FAA is planning to decommission the VOR portion of the Springfield, OH, VOR/DME NAVAID in March, 2020. The Springfield, OH, VOR was one of the candidate VORs identified for discontinuance by the FAA's VOR Minimum Operating Network (VOR MON) program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. Although the VOR portion of the Springfield, OH, VOR/DME is being decommissioned, the Springfield, OH, DME is being retained in the same location and charted as a DME facility with the same “SGH” identifier.

In reviewing ATS route dependencies associated with the Springfield, OH, VOR/DME, the FAA identified T-217 as the only air traffic service (ATS) route dependency. Since the Springfield, OH, DME facility is being retained in the same location with the same SGH identifier, the FAA determined T-217 could be retained as published, with minor editorial corrections to the description, to continue supporting enroute airspace users, as well as ongoing NextGen efforts to transition the national airspace system to performance-based navigation.

This rule makes an editorial amendment to the T-217 legal description to reflect the Springfield, OH (SGH), route point as a DME facility due to the Springfield, OH, VOR being decommissioned. Additionally, other minor editorial corrections are being made to comply with route description policy guidance. The editorial amendment and corrections to T-217 do not change the route's structure, operational use, or charted depiction.

Low altitude RNAV T-routes are published in paragraph 6011 of FAA Order 7400.11D dated August 8, 2019, and effective September 15, 2019, which is incorporated by reference in 14 CFR 71.1. The low altitude RNAV T-route listed in this rule will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by modifying RNAV route T-217. The planned decommissioning of the VOR portion of the Springfield, OH, VOR/DME NAVAID has made this action necessary. The route modification is editorial in nature and simply changes the type of facility listed for the Springfield, OH (SGH) route point. A number of minor editorial formatting corrections are also made. No air traffic services are affected by this action and no substantive change to the RNAV route is being made. Therefore, notice and public procedures under 5 U.S.C. 553(b) is unnecessary.

The RNAV route modifications accomplished by this action are outlined below.

T-217: T-217 extends between the Lexington, KY, VOR/Tactical Air Navigation (VORTAC) and the BONEE, OH, fix. This rule changes the Springfield, OH (SGH) route point from being listed as “VOR/DME” to “DME”. Additionally, the Lexington VORTAC “HYK” identifier is added to the first line of the route description and the geographic coordinates of each route point are updated to be expressed in degrees, minutes, seconds, and hundredths of a second. The existing RNAV route remains as charted.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying RNAV route T-217 near Springfield, OH, qualifies for categorical exclusion under the National Environmental Policy Act and its implementing regulations at 40 CFR part 1500, and in accordance with FAA Order 1050.1F, Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6011 United States Area Navigation Routes.

* * * * *

T-217 Lexington, KY (HYK) to BONEE, OH [Amended]
Lexington, KY (HYK) | VORTAC | (Lat. 37°57′58.86″ N, long. 84°28′21.06″ W)
BOSTR, OH | FIX | (Lat. 38°53′08.13″ N, long. 84°04′58.02″ W)
HEDEN, OH | FIX | (Lat. 39°16′44.88″ N, long. 84°02′02.37″ W)
PRUDE, OH | FIX | (Lat. 39°25′44.92″ N, long. 83°56′58.60″ W)
Springfield, OH (SGH) | DME | (Lat. 39°50′11.55″ N, long. 83°50′41.84″ W)
BONEE, OH | FIX | (Lat. 40°03′08.85″ N, long. 83°56′56.15″ W)

* * * * *

Issued in Washington, DC, on January 15, 2020.
Scott M. Rosenbloom,
Acting Manager, Rules and Regulations Group.

[FR Doc. 2020-00995 Filed 1-22-20; 8:45 am]

BILLING CODE 4910-13-P